FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 22, 2008.

A. Federal Reserve Bank of Chicago (Burl Thornton, Assistant Vice President) 230 South LaSalle Street, Chicago, Illinois 60690-1414:

1. Harrison I. Steans, Bannockburn, Illinois, and Jennifer W. Steans, Evanston, Illinois, Financial Investments Corporation, PCB, LP, General Partners; Heather A. Steans; Robin M. Steans, all of Chicago, Illinois; Harrison I. Steans Self-Declaration of Revocable Trust - Harrison I. Steans, Trustee, both of Bannockburn, Illinois; Jennifer W. Steans 1999 Descendents Trust - James P. Kastenholz, Trustee, both of Evanston, Illinois; Heather A. Steans 1999 Descendants Trust - Leo A. Smith, Trustee; Robin M. Steans 1999 Descendents Trust - Leonard A. Gail, Trustee, both of Chicago, Illinois; Jennifer W. Steans 2000 Trust - Jennifer W. Steans, Trustee, both of Evanston, Illinois; Heather A. Steans 2001 Trust - Heather A. Steans, Trustee; Robin M. Steans Revocable Trust - Robin M. Steans, Trustee, both of Chicago, Illinois; James P. Kastenholz 2000 Trust - James P. Kastenholz, Trustee, both of Evanston, Illinois; Leonard A. Gail Revocable Trust - Leonard A. Gail, Trustee, both of Chicago, Illinois; Hunter Family Foundation - Thomas B. Hunter, III, and Maxine M. Hunter, Trustees; Maxine M. Hunter Charitable Lead Annuity Trust - Thomas B. Hunter, IV, all of Lake Forest, Illinois, and Willard M. Hunter, Trustees, Lake Bluff, Illinois; Thomas B. Hunter, III Self Declaration of Revocable Trust - Thomas B. Hunter, III, Trustee; Morrison Family Foundation - Harold M. Morrison; Adeline S. Morrison, Trustees; Harold M. Morrison Trust - Harold M. Morrison, Trustee, all of Lake Forest, Illinois; and USAmeriBancorp, Largo, Florida, to acquire voting shares of Taylor Capital Group, Rosemont, Illinois, and thereby indirectly acquire control of Cole Taylor Bank, Chicago, Illinois.

Board of Governors of the Federal Reserve System, September 2, 2008.
Robert deV. Frierson,
Deputy Secretary of the Board.

[FR Doc. E8-20583 Filed 9-4-08; 8:45 am]

BILLING CODE 6210-01-S